DEPARTMENT OF LABOR

Office of the Secretary

Submission for OMB Emergency Review—Comment Request

September 5, 2005.

The Department of Labor (DOL) has submitted the following (see below) information collection request (ICR), utilizing emergency review procedures, to the Office of Management and Budget (OMB) for review and clearance in accordance with the Paperwork Reduction Act of 1995 (Pub. L. 104-13, 44 U.S.C. Chapter 35). OMB approval has been requested by September 16, 2005. A copy of this ICR, with applicable supporting documentation, may be obtained by calling the DOL Departmental Clearance Officer, Ira Mills, on (202) 693-4122 (this is not a toll-free number) or e-mail: mills.ira@dol.gov.

Comments and questions about the ICR listed below should be submitted to the Office of Information and Regulatory Affairs (OIRA), Attn.: OMB Desk Officer for the Employment and Training Administration, Office of Management and Budget, Room 10235, Washington, DC 20503 (202) 395-7316 (this is not a toll-free number) before September 16, 2005.

The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other collection techniques or other forms of information technology; e.g., permitting electronic submissions of responses.

Agency: Employment and Training Administration.

Title: Senior Community Service Employment Program Performance Measurement System.

OMB Control Number: 1205-0040.

Frequency: Quarterly; Annually.

Affected Public: Not-for-profit; Business or other for-profit; Federal Government; and State, local or tribal.

Number of Respondents: 78.

Cite reference | Total respondents ¹ | Frequency | Total responses | Average time per response (minutes) | Burden hours
Participant Form—ETA-9020 | 69 | Ongoing | 106,000 | 11 | 19,430
Community Service Assignment Form—ETA-9020 | 69 | Ongoing | 110,000 | 5 | 9,170
Unsubsidized Employment Form—ETA-9022 | 69 | Ongoing | 22,000 | 11 | 4,030
Exit Form—ETA-9023 | 69 | Ongoing | 55,000 | 2 | 1,830
Quarterly Progress Report—ETA-5140 | 69 | Quarterly & Year-End | 345 | 14 | 80
502(e) Participant Form—ETA-9020 (502e) | 9 | Ongoing | 13,050 | 3 | 650
502(e) Training Form—ETA-9021 (502e) | 9 | Ongoing | 14,350 | 5 | 1,100
Unsubsidized Employment Form—ETA-9022 (502e) | 9 | Ongoing | 1,900 | 11 | 350
502(e) Quarterly Progress Report—ETA-5140 (502e) | 9 | Quarterly & Year-End | 45 | 10 | 10
Sub-total ETA forms |  |  | 322,690 | 8 | 36,650

Total Burden Hours: 36,650.

Total Annualized Capital/Startup Costs: $0.

Total Burden Cost (Operating/Maintaining Systems or Purchasing Services): $0.

Description: This package contains revised program performance reports for the Senior Community Service Employment Program (SCSEP). The previously approved package permitted implementation of the Older Americans Act (OAA) Amendments of 2000. That request reflected information collection requirements contained in the Final Rule submitted to OMB on December 24, 2003. The current request is for approval of modified forms necessitated by the implementation of an Internet-based SCSEP Performance and Results QPR (SPARQ) system due to go into effect on July 1, 2005.

The SCSEP is funded for approximately $440 million and provides over 60,000 positions in which over 100,000 low-income persons aged 55 or more are employed each year. Over 22,000 people will be placed from the program into unsubsidized placement. The main part of the program is operated by 69 grantees, either state governments or national non-profit organizations. The Section 502(e) training portion of the program is operated by an additional set of nine grantees.

To ensure that the Senior Community Service Employment Program is properly administered, and to implement the performance measures and sanctions authorized by the 2000 Amendments to the OAA, it is necessary to expand and change the existing Quarterly Progress Report (QPR). In addition, a collection of information is required under OMB Memorandum M-02-06, which has been adopted by the Department of Labor (the Department). This requirement necessitates a collection of information to implement the Administration's common performance measures.

Ira L. Mills,
Departmental Clearance Officer/Team Leader.

[FR Doc. 05-18003 Filed 9-8-05; 8:45 am]

BILLING CODE 4510-30-P